DEPARTMENT OF STATE

[Public Notice: 11817]

Notice of Public Meeting in Preparation for the International Maritime Organization TC 72 Meeting

The Department of State will conduct a public meeting at 10:00 a.m. on Wednesday, October 12, 2022, both in Washington, DC and by way of teleconference. The primary purpose of this meeting is to prepare for the seventy second session of the International Maritime Organization's (IMO) Technical Cooperation Committee (TC 72) to be held at the IMO Headquarters in London, United Kingdom from Monday, October 17, to Friday, October 21, 2022.

Members of the public may participate in person or up to the capacity of the teleconference phone line, which can handle 500 participants. To attain details on attending in-person or participating via the teleconference line, participants should contact the meeting coordinator, LCDR Jessica Anderson, by email at Jessica.P.Anderson@uscg.mil.

The agenda items to be considered at this meeting mirror those to be considered at TC 72, and include:

—Adoption of the agenda

—Work of other bodies and organizations

—Integrated Technical Cooperation Programme: Annual report for 2021

—Resource mobilization and partnerships

—The 2030 Agenda for Sustainable Development

—Long-term strategy for the review and reform of IMO's technical cooperation

—Regional presence and coordination

—IMO Member State Audit Scheme

—Capacity-building: Strengthening the impact of women in the maritime sector

—Global maritime training institutions

—Application of the document on the Organization and method of work of the Technical Cooperation Committee

—Work programme

—Election of the Chair and Vice-Chair for 2023

—Any other business

—Consideration of the report of the Committee on its seventy-second session

Please note: the Committee may adjust the TC 72 agenda to accommodate the constraints associated with the hybrid meeting format. Any changes to the agenda will be reported to those who RSVP.

Those who plan to participate may contact the meeting coordinator, LCDR Jessica Anderson, by email at Jessica.P.Anderson@uscg.mil, by phone at (202) 372-1376, or in writing at 2703 Martin Luther King Jr. Ave. SE, Stop 7509, Washington, DC 20593-7509 prior to the meeting with any questions. Members of the public needing reasonable accommodation should advise LCDR Anderson not later than September 30, 2022. Requests made after that date will be considered, but might not be possible to fulfill.

Additional information regarding this and other IMO public meetings may be found at: https://www.dco.uscg.mil/IMO.

(Authority: 22 U.S.C. 2656.)

Emily A. Rose,
Coast Guard Liaison Officer, Office of Ocean and Polar Affairs, Department of State.

[FR Doc. 2022-17234 Filed 8-10-22; 8:45 am]

BILLING CODE 4710-09-P